DEPARTMENT OF AGRICULTURE

Commodity Credit Corporation

7 CFR Part 1463

RIN 0560-AI12

Tobacco Transition Payment Program; Cigar and Cigarette Per Unit Assessments; Correction

AGENCY: Commodity Credit Corporation and Farm Service Agency, USDA.

ACTION: Proposed rule; correction.

SUMMARY: This document contains a correction to the Request for Comments titled “Tobacco Transition Payment Program; Cigar and Cigarette Per Unit Assessments,” which was published March 22, 2011. The Commodity Credit Corporation (CCC) is correcting an inaccurate statement about the possible consequences of an alternative assessment methodology.

DATES: We will consider comments that we receive by May 23, 2011.

ADDRESSES: We invite you to submit comments on the Request for Comments, as corrected by this document. In your comment, please specify RIN 0560-AI12 and include the volume, date, and page number (March 22, 2011, 76 FR 15859-15864) of the issue of the Federal Register in which the Request for Comments was published. You may submit comments by either of the following methods:

• Federal eRulemaking Portal: Go to http://www.regulations.gov. Follow the online instructions for submitting comments.

• Mail: Jane Reed, Economic and Policy Analysis Staff, Farm Service Agency, USDA, 1400 Independence Ave, SW., Mail Stop 0515, Washington, DC 20250-0514.

Comments may be inspected at the above address, in room 3722, between 8 a.m. and 4:30 p.m. Monday through Friday, except holidays.

FOR FURTHER INFORMATION CONTACT: Jane Reed; phone: (202) 720-6782. Persons with disabilities or who require alternative means for communication (Braille, large print, audio tape, etc.) should contact the USDA Target Center at (202) 720-2600 (voice and TDD).

SUPPLEMENTARY INFORMATION: On March 22, 2011, CCC published a Request for Comments (76 FR 15859-15864) requesting comments about the calculation of assessments to fund the Tobacco Transition Payment Program (TTPP) as authorized by the Fair and Equitable Tobacco Reform Act of 2004 (FETRA) (7 U.S.C. 518-519a). CCC needs to correct the information in the Request for Comments to remove inadvertently inaccurate estimates of the impact of an alternative cigar assessment methodology.

The Request for Comments on page 15864, in the first column, contained a paragraph that stated that the possible impact of one alternative might have been a twelve-fold increase with respect to large cigars for 2010, and that the effect of this might have even been greater for previous years because of a recent change in product mix. That paragraph reads as follows:

But assuming a situation in which there are substantial small cigar marketings in the actual “small cigar” tax category, changing the Step B method would substantially change assessment levels. Even applied to assessment data from the first quarter of 2010, it appears that the alternative method of using cigar subcategories would have increased the large cigar unit assessment as much as 12 times. That difference might actually have been greater before then because in 2010, the shift in market volume from small to large cigars had already begun.

The estimate of the impact of the alternative method is inaccurate; an error was made in the calculations on which this paragraph was based. A recalculation was made using 2006 data. The recalculation demonstrated that had the alternative methodology been in use in 2006, the alternative methodology would have increased the large cigar assessment by roughly 80 percent, not twelve-fold, and would have decreased the small cigars assessment (as “small cigars” are defined for the purposes of excise taxes) by roughly 95 percent. For 2010, it is estimated that there would have been only a slight change in the large cigar assessment if cigar categories were broken out separately at the Step A level. Therefore, this document corrects the Request for Comments by removing the paragraph quoted above that contains the inaccurate estimate of impact.

Signed in Washington, DC, on April 4, 2011.
Carolyn B. Cooksie,
Acting Executive Vice President, Commodity Credit Corporation.

[FR Doc. 2011-8403 Filed 4-7-11; 8:45 am]

BILLING CODE 3410-05-P